DEPARTMENT OF ENERGY

Federal Energy Regulatory Commission

[Docket Nos. RP02-188-000, CP01-69-003, and RP00-491-001]

Petal Gas Storage, L.L.C.; Notice of Tariff Filing

March 7, 2002.

Take notice that on March 1, 2002, Petal Gas Storage, L.L.C. (Petal), tendered for filing as part of its FERC Gas Tariff, Original Volume No. 1, the tariff sheets listed in Appendix A and Appendix B to its filing. Petal requests that these sheets be made effective April 1, 2002.

Petal states that the tariff sheets are being filed in compliance with the Commission's October 25, 2001 (Certificate Order), and February 14, 2002 Orders in the above-referenced proceeding. The Certificate Order approved Petal's request to construct and operate approximately 59 miles of pipeline, compression and appurtenant facilities (the Petal Pipeline), and accepted Petal's pro forma filing to establish transportation services on the Petal Pipeline, subject to certain revisions.

Petal states that it is submitting the Appendix A tariff sheets in compliance with the Certificate Order to implement those sheets. Petal further states that it is submitting the proposed alternate Appendix B sheets at the request of, and as a resolution of, issues raised by its customers. Petal further states that it is also submitting the instant filing in its Certificate (CP01-69) and Order No. 637 proceedings (RP00-491-000), so that all parties may have a chance to comment in accordance with the February 14, 2002 Order on Clarification.

Petal states that copies of the filing have been mailed to all affected customers and state regulatory Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6006 Filed 3-12-02; 8:45 am]

BILLING CODE 6717-01-P